DEPARTMENT OF DEFENSE

Office of the Secretary

Renewal of Department of Defense Federal Advisory Committees—Inland Waterways Users Board

AGENCY: Department of Defense (DoD).

ACTION: Federal advisory committee renewal.

SUMMARY: The DoD is publishing this notice to announce that it is renewing the charter of the Inland Waterways Users Board (IWUB).

FOR FURTHER INFORMATION CONTACT: Jim Freeman, Advisory Committee Management Officer for the Department of Defense, 703-692-5952.

SUPPLEMENTARY INFORMATION: The IWUB charter is being renewed in accordance with chapter 10 of title 5, United States Code (U.S.C.) (commonly known as the “Federal Advisory Committee Act” or “FACA”). The charter and contact information for the IWUB's Designated Federal Officer (DFO) are found at https://www.facadatabase.gov/FACA/apex/FACAPublicAgencyNavigation.

The IWUB, required by 33 U.S.C. 2251(a), is to provide the Secretary of Defense and Congress with independent advice and recommendations on matters relating to the U.S. inland waterways and inland harbors. For commercial navigation features and components of U.S. inland waterways and inland harbors, the IWUB shall provide: (a) prior to the development of the budget proposal of the President of the United States for a given fiscal year, advice and recommendations to the Secretary of the Army regarding construction and rehabilitation priorities and spending levels; (b) advice and recommendations to Congress regarding any feasibility report for a project on the inland waterway system that has been submitted to Congress pursuant to 33 U.S.C. 2282d; (c) advice and recommendations to Congress regarding an increase in the authorized cost of those features and components; (d) not later than 60 days after the date of the submission of the budget proposal of the President to Congress, advice and recommendations to Congress regarding construction and rehabilitation priorities and spending levels; and (e) advice and recommendations on the development of a long-term capital investment program in accordance with 33 U.S.C. 2251(d), to include not later than 5 years after June 10, 2014, and not less frequently than once every 5 years thereafter, the Secretary of the Army, in coordination with the IWUB, (1) submit to Congress and make publicly available a strategic review for the 20-year program in effect under this subsection, which shall identify and explain any changes to the project-specific recommendations contained in the previous 20-year program (including any changes to the prioritization criteria used to develop the updated recommendations; and (2) make revisions to the program, as appropriate.

Pursuant to 33 U.S.C. 2251(a) and (f)(2), the IWUB shall be composed of 11 members appointed to serve as representative members. The members shall be selected to represent various regions of the country and a spectrum of the primary users and shippers utilizing the inland and intracoastal waterways for commercial purposes. Due consideration shall be given to assure a balance among the members based on the ton-mile shipments of the various categories of commodities shipped on inland waterways.

Commercial users and shippers invited to serve on the IWUB shall designate an individual to represent the organization's interests. Based upon the Secretary of the Army's recommendation of the organizations and their proposed representatives, the Secretary of Defense or the Deputy Secretary of Defense (“the DoD Appointing Authority”) shall approve the appointment of the representative members to the IWUB pursuant to title 41 Code of Federal Regulations (CFR) section 102-3.130(a) for a two-year term of service. No representative member, unless approved by the DoD Appointing Authority, may serve more than two consecutive terms of service, or serve on more than two DoD Federal Advisory Committees at one time. Except for reimbursement of official IWUB-related travel and per diem, IWUB members serve without compensation.

In addition, the Secretary of the Army shall designate, and the Secretaries of Agriculture, Transportation, and Commerce may each designate, a representative to act as an observer of the IWUB. These observers, who have no voting rights, shall each be a full-time or permanent part-time Federal civilian officer or employee, or active-duty member of the Uniformed Services, of his or her respective agency and shall serve as a regular government employee member appointed pursuant to 41 CFR 102-3.130(a).

The public or interested organizations may submit written statements to the IWUB membership about the IWUB's mission and functions. Written statements may be submitted at any time or in response to the stated agenda of planned meeting of the IWUB. All written statements shall be submitted to the DFO for the IWUB, and this individual will ensure that the written statements are provided to the membership for their consideration.

Dated: May 30, 2024.
Aaron T. Siegel,
Alternate OSD Federal Register Liaison Officer, Department of Defense.

[FR Doc. 2024-12381 Filed 6-5-24; 8:45 am]

BILLING CODE 6001-FR-P